DEPARTMENT OF LABOR

Employment and Training Administration

[TA-W-50,664 and TA-W-50,664A]

Tyco Healthcare Retail Group, Harmony, PA; Tyco Healthcare Retail Group, East Butler, PA; Notice of Termination of Investigation

Pursuant to section 221 of the Trade Act of 1974, an investigation was initiated on January 23, 2003, in response to a petition filed by a company official on behalf of workers at Tyco Healthcare Retail Group, Harmony, Pennsylvania, and East Butler, Pennsylvania.

The company official submitting the petition has requested that the petition be withdrawn. Consequently, further investigation in this case would serve no purpose and the investigation has been terminated.

Signed in Washington, DC, this 31st day of January 2003.
Richard Church,
Certifying Officer, Division of Trade Adjustment Assistance.

[FR Doc. 03-4277 Filed 2-21-03; 8:45 am]

BILLING CODE 4510-30-P